DEPARTMENT OF THE INTERIOR

Bureau of Reclamation

Request for Small Reclamation Projects Act Loan To Construct Narrows Dam in Sanpete County, UT

AGENCY: Bureau of Reclamation (Interior), Lead Agency; U.S. Forest Service (Agriculture); and U.S. Army Corps of Engineers (Army), Cooperating Agencies.

ACTION: Notice of intent to prepare a supplemental draft environmental impact statement.

SUMMARY: The Bureau of Reclamation (Reclamation), the Federal agency with administrative authority under the Small Reclamation Projects Act (SRPA), in cooperation with the U.S. Forest Service and U.S. Army Corps of Engineers, intends to prepare a supplemental draft environmental impact statement (EIS) pursuant to the National Environmental Policy Act (NEPA) of 1969, as amended, and 40 CFR 1502.9. The supplemental draft EIS will describe the effects of granting a SRPA loan and authorizing use of withdrawn lands to the Sanpete Water Conservancy District (SWCD) for the purpose of constructing the Narrows Dam and Reservoir and rehabilitating the existing Gooseberry (Narrows) Tunnel. The purpose of the proposed action is to enable the SWCD to develop an existing Gooseberry Project right to 5,400 acre-feet of water.

FOR FURTHER INFORMATION CONTACT: Mr. Kerry Schwartz, Bureau of Reclamation, Provo Area Office, 302 East 1860 South, Provo, Utah 84606-7317; telephone (801) 379-1150; faxogram (801) 379-1159; e-mail: kschwartz@uc.usbr.gov.

SUPPLEMENTARY INFORMATION: The draft EIS for this proposed action was prepared and published for public comment in 1998. The supplemental draft EIS will incorporate comments received on the draft EIS in 1998 as well as new information received since that time. When the supplemental draft EIS is complete, a Notice of Availability will be published in the Federal Register. That notice will contain information about public hearings that will be held to receive comments on the supplemental draft EIS. Public comments on the draft document will be solicited for a 60-day comment period.

Background

Water development in the Gooseberry Creek drainage in Utah has a lengthy history dating back to the early 20th century. The proposed action for which this supplemental draft EIS is being prepared was initiated in 1981 by a Notice of Intent published in the Federal Register by the SWCD to apply for a SRPA loan to help finance construction of the Narrows Dam and Reservoir and rehabilitation of the existing Gooseberry (Narrows) Tunnel. The proposed reservoir would have a total capacity of 17,000 acre-feet of water and would provide active storage of no more than 14,500 acre-feet of water for the purpose of receiving 5,400 acre-feet per year of water from Gooseberry Creek by transmountain diversion through the Gooseberry (Narrows) Tunnel, under a water right approved by the Utah State Engineer on January 7, 1985.

A draft EIS analyzing the potential impacts of the proposed action was prepared by Reclamation and circulated for public review in 1993. A final EIS and Record of Decision were completed in 1995, but the Record of Decision was rescinded later in 1995. A new draft EIS was published in March 1998 for public review and comment, and public hearings were held to receive comments on the draft EIS in April 1998. Since that time, Reclamation has addressed and incorporated comments received on the 1998 draft EIS and engaged in written and oral communications with the interested public, including its cooperating agencies, and other state and Federal regulatory agencies. Because of new information either received or developed from comments received on the 1998 draft EIS, Reclamation and its cooperating agencies have determined that a supplemental draft EIS should be prepared and published for public review and comment rather than proceeding with publication of a final EIS. Specifically, the supplemental draft EIS will update or add new information as follows:

• Updated hydrology studies through 2002.

• Updated water quality studies through 2002.

• Updated population and demographics based on a 2000 census.

• Updated water usage data.

• Updated recreation data.

• Added discussion regarding Skyline Mine water development.

• Updated brown trout habitat suitability curves.

• Updated project cost estimates.

• Updated wetlands delineations.

• Added discussion and analysis related to Wild and Scenic Rivers proposed designation for Gooseberry Creek.

• Updated Endangered Species Act compliance for Colorado pikeminnow use of the lower Price River

Purpose and Need for Action

Reclamation has received an application for a SRPA Loan from the SWCD for the purposes of constructing the Narrows Project. The primary purpose of the Narrows Project is to develop an irrigation and municipal and industrial supply source for water users in north Sanpete County, Utah. The following water needs would be addressed by the proposed

• Demand for municipal water for present and future use currently exceeds the available supply. The proposed Narrows Project would develop through exchange an additional supply of municipal water to offset current shortages and accommodate anticipated population growth in the project area;

• The current water supply for agricultural irrigation does not provide adequate supply and storage during July, August, and September of each year. The proposed Narrows Project would provide late season irrigation water to offset at least some of the current shortages; and

• The Gooseberry (Narrows) Tunnel in Sanpete County is in need of rehabilitation to maintain and enhance its dependability and capability to deliver water to Sanpete County users. The proposed Narrows Project would include such rehabilitation work to prevent tunnel failure and ensure the tunnel's continuing usefulness.

In addition to the primary purpose of supplying water to Sanpete County, the project would have the additional benefit of providing improved and additional recreation and fishery opportunities in Sanpete County.

Proposed Action

Reclamation proposes to approve the SWCD's loan application under the SRPA and authorize use of withdrawn lands to enable the SWCD to construct the Narrows Project. If the loan and use of the land are approved, a supplemental water supply would be developed for presently irrigated lands and municipal water users in north Sanpete County. A dam and reservoir would be built on Gooseberry Creek and water would be diverted through the existing Gooseberry (Narrows) Tunnel (which would be rehabilitated) to Cottonwood Creek. Pipelines would be built to deliver the water to existing water distribution systems. Recreation facilities would be developed and a 2,500 acre-foot minimum pool for fish habitat would be provided. Mitigation measures would be implemented to offset adverse impacts to wetlands, terrestrial wildlife, and stream fisheries. Additional water conservation measures would be implemented independent of this proposed action, but water users would be required to use or agree to implement conservation measures to be eligible to receive project water.

Public Disclosure

It is Reclamation's practice to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: October 21, 2003.
Rick L. Gold,
Regional Director, Upper Colorado Region, Bureau of Reclamation.

[FR Doc. 03-29345 Filed 11-24-03; 8:45 am]

BILLING CODE 4310-MN-P